DEPARTMENT OF THE INTERIOR

Bureau of Reclamation

Notice of Intent to prepare an Environmental Impact Report (EIR)/ Environmental Impact Statement (EIS) on the Imperial Irrigation District/San Diego County Water Authority Water Conservation and Transfer Project

AGENCY: Bureau of Reclamation, Interior.

ACTION: Amended Notice of Intent to Prepare a Joint Environmental Impact Report/Environmental Impact Statement (EIR/EIS).

SUMMARY: The Fish and Wildlife Service (Service) intends to be a cooperating agency (pursuant to 40 CFR section 1501.6) in the Bureau of Reclamation's (Bureau) preparation of a joint EIR/EIS pursuant to the National Environmental Policy Act (NEPA) and the California Environmental Quality Act (CEQA). The joint EIR/EIS will be developed for: (1) the conservation and transfer of water from Imperial Irrigation District (IID) to the San Diego County Water Authority (SDCWA), the Coachella Valley Water District (CVWD) and/or the Metropolitan Water District of Southern California (MWD) and (2) approval of a Habitat Conservation Plan, and issuance of an incidental take permit, pursuant to section 10(a)(1)(B) of the Endangered Species Act of 1973, as amended, including consideration of conservation measures or plans addressing State-listed species.

This notice is being furnished pursuant to the Council on Environmental Quality Regulations for Implementing the Procedural Provisions of the National Environmental Policy Act (40 CFR section 1501.22). Pursuant to regulations at 40 CFR (sections 1501.7 and 1508.22), the Bureau, as lead agency pursuant to NEPA, and the Service, as the Federally authorized permitting agency, are seeking suggestions and information from other agencies and the public on the scope of issues and alternatives to be considered in preparation of the joint EIR/EIS pertaining to possible issuance of a Federal incidental take permit. To satisfy both NEPA and CEQA, the Service, as a cooperator, with the Bureau as the Federal lead agency and IID as the State lead agency are conducting this additional scoping process for the preparation of the environmental documents.

DATES: In order to expedite the planning process, the above agencies request all scoping comments on this notice be received by December 6, 2000.

ADDRESSES: You should address written comments to Ms. Nancy Gilbert, Assistant Field Supervisor, Fish and Wildlife Service, 2730 Loker Avenue West, Carlsbad, California 92008. You may also send comments by facsimile to (760) 431-9618.

FOR FURTHER INFORMATION: Contact Ms. Carol Roberts, Salton Sea Coordinator, or Mr. Pete Sorensen, Division Chief, at the above Carlsbad address or by telephone at (760) 431-9440. Persons wishing to obtain background material may contact Mr. Steve Knell of the Imperial Irrigation District at 333 E. Barioni Blvd., P.O. Box 937, Imperial California 92251, or by telephone at (760) 339-9266.

SUPPLEMENTARY INFORMATION: The Bureau is publishing this notice to amend the September 27, 1999 Notice of Intent (see 64 FR 52102) to provide public notice that the project EIR/EIS will include an evaluation of the impacts associated with the potential issuance of an incidental take permit. This was not specifically addressed in the initial Notice of Intent provided for the project. The Habitat Conservation Plan will cover a broad array of activities including: water conservation, water conveyance and drainage, operation and maintenance, system improvements, miscellaneous activities, and third party activities required to achieve the conservation and transfer of up to 300,000 acre-feet of water per year from IID to the SDCWA and to meet the voluntary cap on IID's water use of 3.1 million acre-feet per year from the Colorado River. Up to 100,000 acre-feet of the water conserved by IID may be transferred to the CVWD and/or MWD, instead of SDCWA, as part of the proposed Quantification Settlement Agreement on the Colorado River. The EIR/EIS will evaluate transfer volumes up to 400,000 acre-feet per year. The IID (Applicant) intends to request an incidental take permit for up to 96 listed (Federal and State) and unlisted species of concern (fish, wildlife, and plants) under specific provisions of the permit. In the case of unlisted species, the permit will provide coverage should these species be listed in the future. The Plan will cover all areas of IID's water delivery and collection system from the Imperial Dam on the Colorado River throughout the Imperial Valley (approximately 470,000 acres) into the Salton Sea.

Availability of Documents

During the comment period the documents will be available for public inspection by appointment during normal business hours (8 a.m. to 5 p.m., Monday through Friday) at the Service's Carlsbad Fish and Wildlife Office, the Imperial Irrigation District headquarters in Imperial, and the San Diego County Water Authority office in San Diego. Availability of the draft EIR/EIS for public review and comment will be announced and noticed in the local media and by a Federal Register notice.

Background

IID is an irrigation district formed under California law which provides irrigation water and power to the lower southeastern portion of the California desert. IID was established in 1911 to deliver Colorado River water to lands within the Imperial Valley, California for agriculture, domestic, industrial and other beneficial uses. IID maintains a complex system of delivery canals, laterals, and drains which serve approximately 470,000 acres of intensive agriculture. The project area is approximately bounded by the All-American Canal to the south, the East Highline Canal to the east, the Westside Main Canal to the west, and the Salton Sea to the north. Agricultural drainage flows into the New and Alamo Rivers and into the Salton Sea, a designated repository for agricultural drainage.

On April 29, 1998, IID and SDCWA executed an agreement for the conservation and transfer of up to 300,000 acre-feet of Colorado River water per year from IID to SDCWA. As part of the project, IID intends to implement a conservation program that includes the participation of Imperial Valley land owners and tenants so that on-farm as well as system based conservation can be implemented to achieve the required level of conservation. This transfer is a key part of the California 4.4 Plan that will result in California water agencies using only their 4.4 million acre-foot apportionment of the Colorado River. California is currently diverting up to 5.2 million acre-feet of Colorado River water per year. Subsequent negotiations with other Colorado River water rights holders in California have resulted in a proposed Quantification Settlement Agreement among IID, MWD, and CVWD which would reduce the maximum amount of conserved water transferred to SDCWA to 200,000 acre-feet per year and would provide for the transfer of the additional 100,000 acre-feet to the CVWD and the MWD.

A joint EIR/EIS is being prepared by the Bureau and the IID with the Service as a cooperating agency to address the impacts associated with the project and with permit issuance for the project. Additional information on the project can be found in the original Notice of Intent published at 64 FR 52102. Scoping meetings were held in response to that Notice of Intent on October 12-20, 1999, and no additional scoping meetings are planned in response to this notice.

Section 9 of the Endangered Species Act and the Service regulations prohibit the “take” of threatened or endangered wildlife. Take means to harass, harm, pursue, hunt, shoot, wound, kill, trap, capture, or collect listed animal species, or attempt to engage in such conduct (16 U.S.C. 1538). Harm may include significant habitat modification that actually kills or injures wildlife by significantly impairing essential behavior patterns, including breeding, feeding and sheltering [50 CFR 17.3(c)]. The Service, however, may issue permits to take endangered and/or threatened wildlife incidental to, and not the purpose of, otherwise lawful activities. Regulations governing permits for endangered and threatened species are found at 50 CFR 17.22 and 17.32.

In anticipation of applying for an incidental take permit the IID is developing a Habitat Conservation Plan. Accordingly, under section 10 of the Endangered Species Act, the Service may issue a permit to the IID authorizing the take of listed and unlisted species incidental to the otherwise lawful conservation and transfer of up to 300,000 acre-feet of Colorado River water per year to the SDCWA, the CVWD, and the MWD, and additional conservation necessary to achieve the IID's voluntary cap of 3.1 million acre-feet/year on their use of Colorado River water.

The permit application will include a Habitat Conservation Plan (Plan) and an Implementation Agreement that define the responsibilities of all parties under the Plan. IID's Plan will cover roughly the area along the length of the All-American Canal and north of the All-American Canal to the Salton Sea bounded on the east by the East Highline Canal and on the west by the Westside Main Canal. The Plan will identify the species proposed for coverage under the Plan including federally-listed species for which take would be granted at the time of permit issuance as well as other species of concern for which take would be granted should those species be listed in the future. The Plan also describes alternatives to the action and includes measures to minimize and mitigate impacts to species covered in the Plan. The Plan will address minimization and mitigation using both a habitat based and a species by species approach. The joint EIR/EIS will consider IID's proposed project (Proposed Action Alternative) along with other alternatives and the No Action Alternative. Under the Proposed Action Alternative the Service would review IID's incidental take permit application under section 10(a)(1)(B) of the Endangered Species Act.

Environmental review of the Plan will be conducted in accordance with the requirements of the 1969 National Environmental Policy Act as amended (42 U.S.C. 4321 et seq.), National Environmental Policy Act regulations (40 CFR parts 1500-1508), other appropriate regulations, and Service procedures for compliance with those regulations. This notice is being furnished in accordance with section 1501.7 of the National Environmental Policy Act to obtain suggestions and information from other agencies and the public on the scope of issues to be addressed in the joint EIR/EIS.

The Service will utilize the joint EIR/EIS in its evaluation of the permit application, the Habitat Conservation Plan, Implementing Agreement, associated documents, and comments submitted thereon to determine whether the application meets the requirements of section 10(a) of the Endangered Species Act. If the Service determines that the requirements have been met, the Service will issue a permit for the incidental take of the covered listed species.

Dated: October 30, 2000.
Robert W. Johnson,
Regional Director.

[FR Doc. 00-28431 Filed 11-3-00; 8:45 am]

BILLING CODE 4310-MN-P